DEPARTMENT OF ENERGY

Federal Energy Regulatory Commission

Combined Notice of Filings #1

May 11, 2010.

Take notice that the Commission received the following electric corporate filings:

Docket Numbers: EC10-64-000.

Applicants: New Developments Holdings, LLC.

Description: New Development Holdings, LLC et al. submits Joint Application for approval under Section 203 of the Federal Power Act and request for expedited treatment and shortened comment period.

Filed Date: 05/06/2010.

Accession Number: 20100510-0014.

Comment Date: 5 p.m. Eastern Time on Monday, June 7, 2010.

Docket Numbers: EC10-67-000.

Applicants: BHE Holdings Inc., Maine & Maritimes Corporation.

Description: Application of BHE Holdings Inc. and Maine & Maritimes Corp. under FPA Section 203.

Filed Date: 05/11/2010.

Accession Number: 20100511-5097.

Comment Date: 5 p.m. Eastern Time on Tuesday, June 01, 2010.

Take notice that the Commission received the following electric rate filings:

Docket Numbers: ER10-1214-000.

Applicants: PacifiCorp.

Description: PacifiCorp submits a Small Generator Interconnection Agreement Facilities Maintenance Agreement with California Public Power Authority.

Filed Date: 05/10/2010.

Accession Number: 20100510-0217.

Comment Date: 5 p.m. Eastern Time on Tuesday, June 01, 2010.

Docket Numbers: ER10-1216-000.

Applicants: PacifiCorp.

Description: PacifiCorp submits Engineering and Procurement Agreement dated 4/22/10 between PacifiCorp Transmission Services et al. to be designated as Service Agreement 648 under their Seventh Revised Volume 11 Open Access Transmission Tariff.

Filed Date: 05/10/2010.

Accession Number: 20100510-0216.

Comment Date: 5 p.m. Eastern Time on Tuesday, June 01, 2010.

Docket Numbers: ER10-1217-000.

Applicants: PacifiCorp.

Description: PacifiCorp submits Populus Joint Ownership and Operating Agreement with Idaho Power Company to be designated as their Rate Schedule FERC No 659.

Filed Date: 05/10/2010.

Accession Number: 20100510-0215.

Comment Date: 5 p.m. Eastern Time on Tuesday, June 01, 2010.

Docket Numbers: ER10-1218-000.

Applicants: American Electric Power Service Corporation.

Description: Indiana Michigan Power Company submits eighth revised Interconnection and Local Delivery Service Agreement 1262 with Wabash Valley Power Association, Inc.

Filed Date: 05/10/2010.

Accession Number: 20100510-0214.

Comment Date: 5 p.m. Eastern Time on Tuesday, June 01, 2010.

Docket Numbers: ER10-1220-000.

Applicants: Idaho Power Company.

Description: Idaho Power Company submits Hemingway Joint Ownership and Operating Agreement designated as Rate Schedule FERC No. 154.

Filed Date: 05/10/2010.

Accession Number: 20100511-0201.

Comment Date: 5 p.m. Eastern Time on Tuesday, June 01, 2010.

Docket Numbers: ER10-1221-000.

Applicants: American Transmission Systems, Incorporated.

Description: American Transmission Systems, Incorporated submits tariff filing per 35.12: Open Access Transmission Tariff to be effective 5/11/2010.

Filed Date: 05/11/2010.

Accession Number: 20100511-5035.

Comment Date: 5 p.m. Eastern Time on Tuesday, June 01, 2010.

Docket Numbers: ER10-1222-000.

Applicants: DTE East China, LLC.

Description: DTE East China, LLC submits tariff filing per 35.12: DTE East China—Baseline Filing to be effective 5/14/2010.

Filed Date: 05/11/2010.

Accession Number: 20100511-5060.

Comment Date: 5 p.m. Eastern Time on Tuesday, June 01, 2010.

Docket Numbers: ER10-1223-000.

Applicants: DTE Energy Trading, Inc.

Description: DTE Energy Trading, Inc. submits tariff filing per 35.12: DTE Energy Trading—Baseline Filing to be effective 5/14/2010.

Filed Date: 05/11/2010.

Accession Number: 20100511-5061.

Comment Date: 5 p.m. Eastern Time on Tuesday, June 01, 2010.

Docket Numbers: ER10-1224-000.

Applicants: The Cleveland Electric Illuminating Comp, City of Cleveland, Ohio.

Description: Cleveland Electric Illuminating Company submits notice of cancellation of Rate Schedule FERC No 12.

Filed Date: 05/11/2010.

Accession Number: 20100511-0205.

Comment Date: 5 p.m. Eastern Time on Tuesday, June 01, 2010.

Docket Numbers: ER10-1225-000.

Applicants: FirstEnergy Service Company, City of Cleveland, Ohio, American Transmission Systems, Inc., Midwest Independent Transmission System.

Description: American Transmission Systems, Inc submits Original Service Agreement No 2190 to FERC Electric Tariff, Fourth Volume No 1.

Filed Date: 05/11/2010.

Accession Number: 20100511-0206.

Comment Date: 5 p.m. Eastern Time on Tuesday, June 01, 2010.

Docket Numbers: ER10-1226-000.

Applicants: FirstEnergy Solutions Corp.

Description: FirstEnergy Solutions Corp. submits tariff filing per 35.12: Tariff for Sales of Ancillary Service to be effective 5/11/2010.

Filed Date: 05/11/2010.

Accession Number: 20100511-5087.

Comment Date: 5 p.m. Eastern Time on Tuesday, June 01, 2010.

Docket Numbers: ER10-1227-000.

Applicants: Southern California Edison Company.

Description: Southern California Edison Company submits letter agreement with Solar Millennium, LLC.

Filed Date: 05/11/2010.

Accession Number: 20100511-0211.

Comment Date: 5 p.m. Eastern Time on Tuesday, June 01, 2010.

Take notice that the Commission received the following land acquisition reports:

Docket Numbers: LA10-1-000.

Applicants: Order 697-C 2010 1st Qtr Site Acquisition Report.

Description: Quarterly Land Acquisition Report of Pacific Gas and Electric Company.

Filed Date: 04/26/2010.

Accession Number: 20100426-5025.

Comment Date: 5 p.m. Eastern Time on Monday, May 17, 2010.

Docket Numbers: LA10-1-000.

Applicants: Order 697-C 2010 1st Qtr Site Acquisition Report.

Description: MS Utilities submits a Report on Sites for New Generation Capacity Development.

Filed Date: 04/28/2010.

Accession Number: 20100428-5019.

Comment Date: 5 p.m. Eastern Time on Wednesday, May 19, 2010.

Docket Numbers: LA10-1-000.

Applicants: Order 697-C 2010 1st Qtr Site Acquisition Report.

Description: ECP Energy I, LLC et al. Land Acquisition Report (1Q 2010).

Filed Date: 04/29/2010.

Accession Number: 20100429-5094.

Comment Date: 5 p.m. Eastern Time on Thursday, May 20, 2010.

Docket Numbers: LA10-1-000.

Applicants: Order 697-C 2010 1st Qtr Site Acquisition Report.

Description: NRG Power Marketing Inc., et al. Order 697-C Compliance Filing Regarding Site Control.

Filed Date: 04/30/2010.

Accession Number: 20100430-5067.

Comment Date: 5 p.m. Eastern Time on Friday, May 21, 2010.

Docket Numbers: LA10-1-000.

Applicants: Order 697-C 2010 1st Qtr Site Acquisition Report.

Description: Quarterly Land Acquisition Report of ALABAMA ELECTRIC MARKETING, LLC, et al.

Filed Date: 04/30/2010.

Accession Number: 20100430-5158.

Comment Date: 5 p.m. Eastern Time on Friday, May 21, 2010.

Docket Numbers: LA10-1-000.

Applicants: Order 697-C 2010 1st Qtr Site Acquisition Report.

Description: Land Acquisition Report of CPV Keenan II Renewable Energy Company, LLC and CPV Liberty, LLC, et al.

Filed Date: 04/30/2010.

Accession Number: 20100430-5213.

Comment Date: 5 p.m. Eastern Time on Friday, May 21, 2010.

Docket Numbers: LA10-1-000.

Applicants: Order 697-C 2010 1st Qtr Site Acquisition Report.

Description: Xcel Energy Services Inc. Order 697-C Quarterly Non-Material Change in Status Report Compliance Filing on behalf of Northern States Power Company, Public Service Company of Colorado, and Southwestern Public Service Company.

Filed Date: 04/30/2010.

Accession Number: 20100430-5244.

Comment Date: 5 p.m. Eastern Time on Friday, May 21, 2010.

Docket Numbers: LA10-1-000.

Applicants: Order 697-C 2010 1st Qtr Site Acquisition Report.

Description: Notice of Non-Material Change in Status.

Filed Date: 04/30/2010.

Accession Number: 20100430-5507.

Comment Date: 5 p.m. Eastern Time on Friday, May 21, 2010.

Docket Numbers: LA10-1-000.

Applicants: Order 697-C 2010 1st Qtr Site Acquisition Report.

Description: Quarterly Report of First Wind Public Utilities.

Filed Date: 04/30/2010.

Accession Number: 20100430-5050.

Comment Date: 5 p.m. Eastern Time on Friday, May 21, 2010.

Docket Numbers: LA10-1-000.

Applicants: Order 697-C 2010 1st Qtr Site Acquisition Report.

Description: Quarterly Land Acquisition report of Astoria Generating Company, L.P., et al.

Filed Date: 04/30/2010.

Accession Number: 20100430-5108.

Comment Date: 5 p.m. Eastern Time on Friday, May 21, 2010.

Docket Numbers: LA10-1-000.

Applicants: Order 697-C 2010 1st Qtr Site Acquisition Report.

Description: Quarterly Land Acquisition Report of Arlington Valley, LLC, et al.

Filed Date: 04/30/2010.

Accession Number: 20100430-5332.

Comment Date: 5 p.m. Eastern Time on Friday, May 21, 2010.

Docket Numbers: LA10-1-000.

Applicants: Order 697-C 2010 1st Qtr Site Acquisition Report.

Description: Report/Form of San Diego Gas & Electric Company.

Filed Date: 04/30/2010.

Accession Number: 20100430-5280.

Comment Date: 5 p.m. Eastern Time on Friday, May 21, 2010.

Docket Numbers: LA10-1-000.

Applicants: Order 697-C 2010 1st Qtr Site Acquisition Report.

Description: Quarterly Report of Exelon Corporation.

Filed Date: 04/30/2010.

Accession Number: 20100430-5261.

Comment Date: 5 p.m. Eastern Time on Friday, May 21, 2010.

Docket Numbers: LA10-1-000.

Applicants: Order 697-C 2010 1st Qtr Site Acquisition Report.

Description: Munnsville Wind Farm LLC et al. Notice per 18 CFR 35.42(d).

Filed Date: 04/30/2010.

Accession Number: 20100430-5248.

Comment Date: 5 p.m. Eastern Time on Friday, May 21, 2010.

Docket Numbers: LA10-1-000.

Applicants: Order 697-C 2010 1st Qtr Site Acquisition Report.

Description: The Shaw Parties submit Notification of Change in Status/Quarterly Report for First Quarter 2010.

Filed Date: 04/30/2010.

Accession Number: 20100430-5237.

Comment Date: 5 p.m. Eastern Time on Friday, May 21, 2010.

Docket Numbers: LA10-1-000.

Applicants: Order 697-C 2010 1st Qtr Site Acquisition Report.

Description: Change in Status Report of Edison International MBR Affiliates.

Filed Date: 04/28/2010.

Accession Number: 20100428-5016.

Comment Date: 5 p.m. Eastern Time on Wednesday, May 19, 2010.

Docket Numbers: LA10-1-000.

Applicants: Order 697-C 2010 1st Qtr Site Acquisition Report.

Description: Change in Fact Notice Site Report 2010 First Quarter of Spring Canyon Energy LLC, et al.

Filed Date: 04/30/2010.

Accession Number: 20100430-5141.

Comment Date: 5 p.m. Eastern Time on Friday, May 21, 2010.

Docket Numbers: LA10-1-000.

Applicants: Order 697-C 2010 1st Qtr Site Acquisition Report.

Description: Endure Energy, L.L.C. Notification of Change in Status/Quarterly Report for First Quarter 2010.

Filed Date: 04/30/2010.

Accession Number: 20100430-5236.

Comment Date: 5 p.m. Eastern Time on Friday, May 21, 2010.

Docket Numbers: LA10-1-000.

Applicants: Order 697-C 2010 1st Qtr Site Acquisition Report.

Description: Iberdrola Renewables, Inc. et al. Land Acquisition Report (1Q 2010).

Filed Date: 04/29/2010.

Accession Number: 20100429-5093.

Comment Date: 5 p.m. Eastern Time on Thursday, May 20, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. 2010-12244 Filed 5-20-10; 8:45 am]

BILLING CODE 6717-01-P